DEPARTMENT OF HOMELAND SECURITY

Bureau of Immigration and Customs Enforcement

Agency Information Collection Activities: Extension of a Currently Approved Information Collection, Comment Request

ACTION: Request OMB Emergency Approval and 60-Day Notice; Immigration Bond; Form I-352, OMB Control No. 1653-0022.

The Department of Homeland Security, Bureau of Immigration and Customs Enforcement has submitted the following information collection request for review and clearance in accordance with the Paperwork Reduction Act of 1995. The proposed information collection is published to obtain comments from the public and affected agencies. Comments are encouraged and will be accepted for sixty days until December 22, 2006.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Immigration Bond.

(3) Agency form number, if any, and the applicable component of the Department of Homeland Security sponsoring the collection: Form I-352. Bureau of Immigration and Customs Enforcement.

(4) Affected public who will be asked or required to respond, as well as a brief abstract: Primary: Individuals or households. The data collected on this form is used by the ICE to ensure that the person or company posting the bond is aware of the duties and responsibilities associated with the bond. The form serves the purpose of instruction in the completion of the form, together with an explanation of the terms and conditions of the bond.

(5) An estimate of the total number of respondents and the amount of time estimated for an average respondent to respond: 30,000 responses at 30 minutes (.50 hours) per response.

(6) An estimate of the total public burden (in hours) associated with the collection: 15,000 annual burden hours.

If you have additional comments, suggestions, or need a copy of the proposed information collection instrument with instructions, or additional information, please contact Ricardo Lemus 202-616-2266, Acting Branch Chief, Records Management Branch, Bureau of Immigration and Customs Enforcement, U.S. Department of Homeland Security, 425 I Street, NW., Room 1122, Washington, DC 20536. Additionally, comments and/or suggestions regarding the item(s) contained in this notice, especially regarding the estimated public burden and associated response time may also be directed to Ricardo Lemus.

If additional information is required contact: Mr. Ricardo Lemus, Acting Chief, Bureau of Immigration and Customs Enforcement, United States Department of Homeland Security, 425 I Street, Washington, DC 20536.

Dated: October 18, 2006.
Ricardo Lemus,
Acting Chief, Bureau of Immigration and Customs Enforcement, Department of Homeland Security.

[FR Doc. E6-17676 Filed 10-20-06; 8:45 am]

BILLING CODE 4410-10-P